DEPARTMENT OF TRANSPORTATION

Federal Aviation Administration

14 CFR Parts 21 and 91

[Docket No. FAA-2003-14825; Amendment No. 21-88, 91-293]

RIN 2120-AH90

Standard Airworthiness Certification of New Aircraft; Correction

AGENCY: Federal Aviation Administration (FAA), DOT.

ACTION: Final rule; correction.

SUMMARY: This document makes a correction to the final rule published in the Federal Register on September 1, 2006 (71 FR 52250), which amends regulations for issuing airworthiness certificates to certain new aircraft manufactured in the United States. This action is necessary to add an amendment number to the headings section at the beginning of the final rule. This correction does not make substantive changes to the final rule.

DATES: Effective Date: October 2, 2006.

FOR FURTHER INFORMATION CONTACT: Dan Hayworth, Airworthiness Certification Branch, AIR-230, Federal Aviation Administration, 800 Independence Avenue, SW., Washington, DC 20591, telephone (202) 267-8449.

SUPPLEMENTARY INFORMATION:

Background

The September 1, 2006, final rule (71 FR 52250) inadvertently failed to include in the headings section at the beginning of the rule an amendment number for the change to 14 CFR part 91. Amendment numbers are a means by which the FAA keeps track of changes to its regulations. The final rule included an amendment number for the changes to 14 CFR part 21 (No. 21-88), but not for part 91. For this reason, we are adding amendment number 91-293 to the headings section at the beginning of the rule.

Correction

In final rule FR Doc. 06-7355, beginning on page 52250 in the issue of September 1, 2006, make the following correction in the headings section. On page 52250 in the first column, change the agency docket information to read as follows:

“[Docket No. FAA-2003-14825; Amendment Nos. 21-88, 91-293]”

Issued in Washington, DC, on September 11, 2006.
Ida M. Klepper,
Acting Director, Office of Rulemaking.

[FR Doc. 06-8234 Filed 9-25-06; 8:45 am]

BILLING CODE 4910-13-P